DEPARTMENT OF VETERANS AFFAIRS

38 CFR Part 3

RIN 2900-AK37

Acceptable Evidence From Foreign Countries

AGENCY: Department of Veterans Affairs.

ACTION: Proposed rule.

SUMMARY: The Department of Veterans Affairs (VA) proposes to amend its adjudication regulation concerning evidence that is received from foreign countries. The intended effect of this amendment is to present the existing regulation in plain language.

DATES: Comments must be received on or before December 18, 2001.

ADDRESSES: Mail or hand deliver written comments to: Director, Office of Regulations Management (02D), Department of Veterans Affairs, 810 Vermont Ave., NW., Room 1154, Washington, DC 20420; or fax comments to (202) 273-9289; or e-mail comments to OGCRegulations@mail.va.gov. Comments should indicate that they are submitted in response to “RIN 2900-AK37.” All comments received will be available for public inspection in the Office of Regulations Management, Room 1158, between the hours of 8 a.m. and 4:30 p.m., Monday through Friday (except holidays).

FOR FURTHER INFORMATION CONTACT: Bob White, Team Leader, Plain Language Regulations Project, Veterans Benefits Administration, 810 Vermont Avenue, NW., Washington, DC 20420, telephone (202) 273-7228. This is not a toll-free number.

SUPPLEMENTARY INFORMATION: VA proposes to rewrite 38 CFR 3.202 in plain language. The current regulation, located in subpart A of part 3, discusses when and how evidence from foreign countries must be authenticated. VA proposes to create new § 3.2420 to restate the current regulation. The proposed section would be located in Subpart D, Universal Adjudication Rules That Apply to Benefit Claims Governed by part 3 of this Title.

Paragraph (a) of proposed § 3.2420 states when authentication of the signature of officials of foreign countries is required and who may provide authentication. This is a restatement of the first sentence of paragraph (a) of current § 3.202.

Paragraph (b) of proposed § 3.2420 addresses who may authenticate signatures of foreign government officials when the authentication called for in paragraph (a) of this section is not available. This is a restatement of the last sentence of paragraph (a) and the text of paragraphs (a)(1) and (a)(2) of current § 3.202. We have eliminated the requirement that only the “nearest” United States Consular Officer may certify that the signature of an official of a foreign country has been investigated and found to be authentic. We believe that requirement is unnecessarily narrow and can be broadened without diminishing the integrity of VA's programs. We have, therefore, amended this provision to allow a United States Consular Officer from another country to authenticate the signature.

Paragraph (c) of proposed § 3.2420 lists categories of evidence from foreign countries that do not require authentication of signature. This is a restatement of paragraph (b) of current § 3.202.

Paragraph (d) of proposed § 3.2420 explains that photocopies of original documents are acceptable to VA when they are genuine and free from alteration. This is a restatement of paragraph (c) of current § 3.202.

This rulemaking reflects VA's goal of making government more responsive, accessible, and comprehensible to the public. The Plain Language Regulations Project was developed as a long-term comprehensive project to reorganize and rewrite in plain language the adjudication regulations in part 3 of title 38, Code of Federal Regulations. This proposed rule is one of a series of proposed revisions to those regulations.

Unfunded Mandates

The Unfunded Mandates Reform Act requires (in section 202) that agencies assess anticipated costs and benefits before developing any rule that may result in an expenditure by State, local, or tribal governments, in the aggregate, or by the private sector of $100 million or more in any given year. This proposed rule will have no consequential effect on State, local, or tribal governments.

Paperwork Reduction Act

This document contains no provisions constituting a collection of information under the Paperwork Reduction Act (44 U.S.C. 3501-3520).

Regulatory Flexibility Act

The Secretary certifies that the adoption of this proposed rule would not have a significant economic impact on a substantial number of small entities as they are defined in the Regulatory Flexibility Act, 5 U.S.C. 601-612. The proposed rule does not directly affect any small entities. Only VA beneficiaries could be directly affected. Therefore, pursuant to 5 U.S.C. 605(B), this amendment is exempt from the initial and final regulatory flexibility analysis requirements of sections 603 and 604.

Catalog of Federal Domestic Assistance Program Numbers

The catalog of Federal Domestic Assistance Program numbers for this proposal are 64.100, 64.101, 64.104, 64.105, 64.106, 64.109, 64.100, and 64.127. 1

List of Subjects in 38 CFR Part 3

Administrative practice and procedure, Claims, Disability benefits, Health care, Pensions, Radioactive materials, Veterans, Vietnam.

Approved: October 11, 2001.
Anthony J. Principi,
Secretary of Veterans Affairs.

For the reasons set forth in the preamble, VA proposes to amend 38 CFR part 3 as follows:

PART 3—ADJUDICATION

Subpart A—Pension, Compensation, and Dependency and Indemnity Compensation

1. The authority citation for part 3, subpart A continues to read as follows:

Authority: 38 U.S.C. 501(a), unless otherwise noted.

§ 3.202 [Removed]

2. § 3.202 is removed.

Subpart D—Universal Adjudication Rules that Apply to Benefit Claims Governed by Part 3 of This Title

3. The authority citation for part 3, subpart D continues to read as follows:

Authority: 38 U.S.C. 501(a), unless otherwise noted.

4. § 3.2420 is added under the undesignated center heading “EVIDENCE REQUIREMENTS” to read as follows:

Evidence Requirements

§ 3.2420 Evidence from foreign countries.

(a) Authentication of signature. When the signature on an affidavit or other document signed under oath is authenticated by a government official of a foreign country, the signature of that official must in turn be authenticated by either:

(1) A United States Consular Officer in that jurisdiction, or

(2) The State Department (See § 3.108).

(b) When there is no United States Consular Officer in that country. If there is no United States Consular Officer in that country, the government official's signature may be authenticated by either:

(1) A consular agent of a friendly government whose signature and seal can be verified by the State Department, or

(2) A United States Consular Officer in another country who certifies that the signature was investigated and is authentic.

(c) Authentication of signature not required. Authentication of signature is not required for the following types of evidence:

(1) Documents approved by the Deputy Minister of Veterans Affairs, Department of Veterans Affairs, Ottawa, Canada,

(2) Documents that have the signature and seal of an officer authorized to administer oaths for general purposes,

(3) Documents signed before a VA employee authorized to administer oaths,

(4) Affidavits prepared in the Republic of the Philippines that are certified by a VA representative who is located there and has authority to administer oaths,

(5) Copies of public or church records from any foreign country used to establish birth, adoption, marriage, annulment, divorce, or death, if:

(i) The records have the signature and seal of the custodian of such records, and

(ii) There is no conflicting evidence on file, or

(6) Copies of public or church records from England, Scotland, Wales, or Northern Ireland used to establish birth, marriage, or death, when:

(i) The records have the signature or seal or stamp of the custodian of such records, and

(ii) There is no conflicting evidence on file.

(d) Photocopies of documents acceptable. Photocopies of original documents described in this section are acceptable to establish birth, death, marriage or relationship if VA is satisfied that they are genuine and free from alteration.

(Authority: 22 U.S.C. 4221; 38 U.S.C. 5712)

[FR Doc. 01-26382 Filed 10-18-01; 8:45 am]

BILLING CODE 8320-01-P